NATIONAL SCIENCE FOUNDATION

Notice of Permit Emergency Provision Under the Antarctic Conservation Act of 1978 (Pub. L. 95-541)

AGENCY: National Science Foundation.

ACTION: Notice of permit emergency provision for hazardous waste stored in Antarctica at a location other than a permanent station for more than 12 months due to an emergency, as specified by § 671.17.

SUMMARY: The Program of Environment Health and Safety (PEHS) in the Office of Polar Programs (OD/OPP), in accordance with § 671.17, is giving notice that an emergency relating to considerations of human health and safety caused hazardous waste to be stored in a location other than a permanent station for more than 12 months.

Hazardous waste in the form of batteries and contaminated snow from small glycol and oil spills has been stored at the Antarctica's Gamburtsev Province Project South camp (AGAP) since the late 2009 camp closeout. The waste was packaged into 42 sealed containers, with lithium and lead acid batteries filling 21 of the containers. The remaining 21 containers were filled with waste oil, soiled absorbents, contaminated snow from small spills, and approximately 5 gallons of glycol in a 55 gallon drum. The waste was strapped to plastic air force pallets and placed in a storage berm. At the time of packing, all containers were sound and there was no evidence of leaks. No one has been back to AGAP since the waste was stored.

The South Pole Traverse (SPoT) was scheduled to remove this waste during the 2010-2011 season. The trip to AGAP was scheduled as a side trip between arriving at South Pole and starting the return trip to McMurdo. SPoT encountered bad storms on the way to South Pole. It arrived more than 1 week late, with one tractor incapacitated. With one less tractor to pull the load, the vehicles were travelling much more slowly. Despite this, SPoT set out for AGAP. However, 50 miles into the trip, a second tractor became incapacitated; further slowing progress and limiting the ability of SPoT to self rescue should they have further problems.

If SPoT proceeded as planned they would have been in the field late in the season when many of the planes have left and Search and Rescue (SAR) capabilities are significantly reduced. There was concern that SPoT would not arrive in McMurdo before the last plane left the continent for the season. To avoid this potentially dangerous situation, the trip to AGAP to collect the hazardous waste was cancelled.

In the 2011-2012 season SPoT's priority will be to collect the waste at AGAP. Spot will depart McMurdo for South Pole one week earlier than this past season to allow a greater buffer for weather and other delays. Further, SPoT will travel to AGAP with an extra tractor and driver to accommodate any breakdowns and help speed progress.

FOR FURTHER INFORMATION CONTACT: Dr. Polly A. Penhale at (703) 292-7420.

Nadene G. Kennedy,
Permit Officer, Office of Polar Programs.

[FR Doc. 2011-18372 Filed 7-20-11; 8:45 am]

BILLING CODE 7555-01-P